DEPARTMENT OF ENERGY

Federal Energy Regulatory Commission

[Docket Nos. CP09-60-000; PF08-20-000]

Dominion Cove Point LNG, LP; Notice of Application

February 18, 2009.

Take notice that on February 4, 2009, Dominion Cove Point LNG, LP (Cove Point) with a principal place of business at 120 Tredegar Street, Richmond, VA, filed with the Federal Energy Regulatory Commission an application under section 3 of the Natural Gas Act seeking authorization to upgrade, modify, and expand the existing offshore pier at Cove Point's LNG Terminal located in Calvert County, Maryland. Cove Point says that these proposed facilities will enable the safe docking, discharge and departure from the pier of next-generation LNG vessels that are now coming into service worldwide.

Cove Point's proposal is more fully set forth in the application which is on file with the Commission and open to public inspection. The filing is available for review at the Commission in the Public Reference Room or may be viewed on the Commission's Web site at http://www.ferc.gov using the “eLibrary” link. Enter the docket number excluding the last three digits in the docket number field to access the document. For assistance, contact FERC at FERCOnline Support@ferc.gov or call toll-free, (886) 208-3676 or TYY, (202) 502-8659.

Any questions regarding this Application should be directed to Amanda K. Prestage, Regulatory and Certificates Analyst II, Dominion Transmission, Inc., 701 East Cary Street, Richmond, VA 23219, telephone: (804) 771-4416, fax: (804) 771-4804.

Cove Point says that its Pier Reinforcement Project would consist of the following components to be constructed at or adjacent to the existing offshore pier at the Cove Point LNG Terminal:

• Installation of ten new mooring dolphins;

• Reinforcement of eight existing breasting dolphins;

• Construction of new walkways at each end of the pier;

• Replacement of the existing gangways and service cranes with new automated gangways on platforms;

• Installation of new display boards;

• Upgrading of the docking control system with new quick-release mooring hooks;

• Dredging the channelward side of the pier to accommodate deeper draft vessels; and

• Placing the dredged material at a permitted dredged material placement site.

Cove Point says that the cost of the Pier Reinforcement Project is about $51.1 million and that it is proposing to provide an optional incremental service under Rate Schedules LTD-1 and LTD-2 to shippers utilizing these proposed Incremental Port Facilities. Under Cove Point's current tariff limit, it limits the receipt of vessels at its LNG Terminal to a capacity of no greater than 148,000 cubic meters of LNG. The proposed modifications to the pier would allow Cove Point to receive vessels carrying cargoes of up to 267,000 cubic meters of LNG. Cove Point proposes three options for its import shippers to contract for this incremental service which are explained in more detail in its application, along with applicable proposed revisions to its tariff. One of these options includes a cost-based recourse rate and Cove Point provided details to support the proposed calculation of this recourse rate in its filing.

Cove Point says that this proposal will not involve an increase in the amount of LNG delivered to the LNG Terminal, the amount of storage capacity, or the amount of vaporized LNG sent out from the LNG Terminal over the levels authorized by the Commission in the Cove Point Expansion Project.

On May 21, 2008, the Commission staff granted Cove Point's request to utilize the FERC Pre-Filing Process and assigned Docket No. PF08-20-000 to staff activities involved in the Pier Reinforcement Project. Now as of the filing of Cove Point's application on February 4, 2009, the Pre-Filing Process for this project has ended. From this time forward, this proceeding will be conducted in Docket No. CP09-60-000, as noted in the caption of this Notice.

Pursuant to section 157.9 of the Commission's rules, 18 CFR 157.9, within 90 days of this Notice, the Commission staff will either: complete the environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy Regulatory Commission, 888 First Street, NE., Washington, DC 20426.

Comment Date: March 10, 2009.

Kimberly D. Bose,
Secretary.

[FR Doc. E9-3973 Filed 2-24-09; 8:45 am]

BILLING CODE 6717-01-P